DEPARTMENT OF HEALTH AND HUMAN SERVICES

Health Resources and Services Administration

Agency Information Collection Activities; Proposed Collection; Comment Request

In compliance with the requirement for opportunity for public comment on proposed data collection projects (section 3506(c)(2)(A) of Title 44, United States Code, as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Data Collection Tool for Rural Health Community-Based Grant Programs: (New)

The mission of the Office of Rural Health Policy (ORHP) is to sustain and improve access to quality care services for rural communities. In its authorizing language (Sec. 711 [42 U.S.C. 912]), Congress charged ORHP with “administering grants, cooperative agreements, and contracts to provide technical assistance and other activities as necessary to support activities related to improving health care in rural areas.” In 1991, the Health Service Outreach Grants were first appropriated under the authority of section 301 of the Public Health Service (PHS) Act. In 1996, the Health Centers Consolidation Act of 1996 added the section 330A Rural Health Outreach Grant Program to the PHS Act. In 2002, this was amended and authorized again in the PHS Act, section 330A, as the Rural Health Care Services Outreach, Rural Health Network Development, and Small Health Care Provider Quality Improvement Grant Programs. Five rural health grant programs are currently operating under this authority: (1) The Rural Health Care Services Outreach Grant Program (Outreach), (2) the Rural Health Network Development Program (Network Development), (3) the Small Health Care Provider Quality Improvement Grant Program (Quality), (4) the Delta States Rural Development Network Grant Program (Delta), and (5) the Network Development Planning Grant Program (Network Planning). These grants are to provide expanded delivery of health care services in rural areas, for the planning and implementation of integrated health care networks in rural areas, and for the planning and implementation of small health care provider quality improvement activities. In general, the grants may be used to expand access, coordinate, and improve the quality of essential health care services, and enhance the delivery of health care in rural areas.

For these programs, program performance measures were drafted to provide data useful to the programs and to enable HRSA to provide aggregate program data required by Congress under the Government Performance and Results Act (GPRA) of 1993. These measures cover the principal topic areas of interest to ORHP, including: (a) Access to care, (b) the underinsured and uninsured, (c) workforce recruitment and retention, (d) sustainability, (e) health information technology, (f) network development, and (g) health-related clinical measures. Several measures will be used for all five programs. All measures will speak to the Office's progress toward meeting the goals set forth in its strategic plan.

The annual burden estimate for this proposed collection is as follows:

Grant program | Number of respondents | Frequency of responses | Total responses | Hours per response | Total hour burden
Rural Health Outreach Grant Program | 121 | 1 | 121 | 1.25 | 151.25
Rural Health Network Development | 33 | 1 | 33 | 13 | 429
Small Health Care Provider Quality Improvement Grant Program | 15 | 1 | 15 | 1 | 15
Delta States Rural Development Network Grant Program | 12 | 1 | 12 | 1.25 | 15
Network Development Planning Grant Program | 10 | 1 | 10 | 4 | 40
Total | 191 |  | 191 |  | 650.25

Send comments to Susan G. Queen, Ph.D., HRSA Reports Clearance Officer, Room 10-33 Parklawn Building, 5600 Fishers Lane, Rockville, Maryland 20857. Written comments should be received within 60 days of this notice.

Dated: August 7, 2007.
Alexandra Huttinger,
Acting Director, Division of Policy Review and Coordination.

[FR Doc. E7-15941 Filed 8-14-07; 8:45 am]

BILLING CODE 4165-15-P